DEPARTMENT OF TRANSPORTATION

Coast Guard

[USCG-2000-7096]

National Boating Safety Advisory Council

AGENCY: Coast Guard, DOT.

ACTION: Notice of meetings.

SUMMARY: The National Boating Safety Advisory Council (NBSAC) and its subcommittees on boat occupant protection, navigation lights, personal flotation device-life saving index, and prevention through people will meet to discuss various issues relating to recreational boating safety. All meetings will be open to the public.

DATES: NBSAC will meet on Monday, May 1, 2000, from 8:30 a.m. to 5 p.m. and Tuesday, May 2 from 8:30 a.m. to noon. The Personal Flotation Device-Life Saving Index Subcommittee will meet on Saturday, April 29, 2000, from 1:30 p.m. to 4 p.m. The Prevention Through People Subcommittee will meet on Sunday, April 30, 2000, from 8:30 a.m. to 10:30 a.m.; the Boat Occupant Protection Subcommittee will meet from 10:30 a.m. to 12:30 p.m.; and the Navigation Light Subcommittee will meet from 1:30 p.m. to 4:00 p.m. These meetings may close early if all business is finished. Written material and requests to make oral presentations should reach the Coast Guard on or before April 14, 2000. Requests to have a copy of your material distributed to each member of the committee or subcommittees should reach the Coast Guard on or before April 7, 2000.

ADDRESSES: NBSAC will meet at the Wyndham Garden Hotel, 173 Jennifer Road, Annapolis, Maryland. The subcommittee meetings will be held at the same address. Send written material and requests to make oral presentations to Mr. Albert J. Marmo, Commandant (G-OPB-1), U.S. Coast Guard Headquarters, 2100 Second Street SW, Washington, DC 20593-0001. You may obtain a copy of this notice by calling the U. S. Coast Guard Infoline at 1-800-368-5647. This notice is available on the Internet at http://dms.dot.gov or at the Web Site for the Office of Boating Safety at URL address www.uscgboating.org/.

FOR FURTHER INFORMATION CONTACT: Albert J. Marmo, Executive Director of NBSAC, telephone 202-267-0950, fax 202-267-4285.

SUPPLEMENTARY INFORMATION: Notice of these meetings is given under the Federal Advisory Committee Act, 5 U.S.C. App. 2.

Agendas of Meetings

National Boating Safety Advisory Council (NBSAC)

The agenda includes the following:

(1) Executive Director's report.

(2) Chairman's session.

(3) Personal Flotation Device-Life Saving Index Subcommittee report.

(4) Prevention Through People Subcommittee report.

(5) Boat Occupant Protection Subcommittee report.

(6) Navigation Light Subcommittee report.

(7) Recreational Boating Safety Program report.

(8) Report on boat safety standards development and compliance.

(9) Report on the federal regulations process.

(10) Update on fire extinguisher carton labeling and ratings.

(11) Report on 1999 boating statistics.

(12) Report on the national recreational boating survey.

(13) Council discussion on federal requirements for wearing personal flotation devices.

(14) Presentation on risk management and human errors in recreational boating applications grant study.

(15) Council discussion on recreational boating accident reporting criteria.

(16) Report on marine industry boating safety initiatives.

(17) Report on national nonprofit public service organization grants.

(18) Report on life raft safety issues.

Personal Flotation Device-Life Saving Index Subcommittee

The agenda includes the following:

(1) Discuss the final report on the risk-informed compliance approval process study.

(2) Discuss inflatable personal flotation device (PFD) approval status.

(3) Discuss implications of differences between inflatable and inherently buoyant PFDs.

(4) Discuss current regulatory projects, grants and contracts dealing with PFDs.

Prevention Through People Subcommittee

The agenda includes the following:

(1) Discuss the process for continuing subcommittee guidance and advice concerning public safety awareness campaigns and materials dealing with various boating safety issues.

(2) Review and provide feedback on the new prototype “Federal Requirements and Safety Tips for Recreational Boats” brochure.

(3) Evaluate the results of test marketing of the Boating Under the Influence campaign.

Boat Occupant Protection Subcommittee

The agenda includes the following:

(1) Review subcommittee charges and develop a status update.

(2) Discuss ongoing risk management and human factors initiatives.

(3) Discuss current regulatory projects, grants and contracts impacting boat occupant protection.

(4) Discuss Personal Watercraft Standards Technical Panel activities.

(5) Discuss life raft safety issues.

Navigation Light Subcommittee

The agenda includes the following:

(1) Review subcommittee charges and develop a status update.

(2) Discuss issues coordinated with the Navigation Safety Advisory Council.

(3) Discuss status of navigation light certification rulemaking.

(4) Discuss navigation light grant projects.

Procedural

All meetings are open to the public. Please note that the meetings may close early if all business is finished. At the Chairs' discretion, members of the public may make oral presentations during the meetings. If you would like to make an oral presentation at a meeting, please notify the Executive Director no later than April 14, 2000. Written material for distribution at a meeting should reach the Coast Guard no later than April 14, 2000. If you would like a copy of your material distributed to each member of the committee or subcommittee in advance of a meeting, please submit 25 copies to the Executive Director no later than April 7, 2000.

Information on Services for Individuals With Disabilities

For information on facilities or services for individuals with disabilities or to request special assistance at the meetings, contact the Executive Director as soon as possible.

Dated: March 22, 2000.
Terry M. Cross,
Rear Admiral, U.S. Coast Guard, Director of Operations Policy.

[FR Doc. 00-7647 Filed 3-28-00; 8:45 am]

BILLING CODE 4910-15-P